NATIONAL CREDIT UNION ADMINISTRATION

Electronic Loan, Deposit, and Investment Data Collection

AGENCY: National Credit Union Administration (NCUA).

ACTION: Request for Information (RFI)

SUMMARY: The National Credit Union Administration is conducting a comprehensive review of the loan, deposit, and investment information collected electronically during examinations of federally insured credit unions from the core data processing and offline systems used by credit unions.

DATES: Comments must be received on or before January 2, 2018.

ADDRESSES: Comments may be submitted using one of the methods below (Please do not send comments via multiple methods). Include [Your name and company name (if any)]—Electronic Data Collection Modernization in all correspondence.

• Email: Address to BIMail@NCUA.gov. Include “[Your name] Comments on Electronic Data Collection Modernization” in the email subject line. Any of the following formats is acceptable: HTML, ASCII, Word, RTF, or PDF.

• Mail: Please direct written comments to Amber Gravius, National Credit Union Administration, 1775 Duke Street, Alexandria, Virginia 22314.

NCUA will post all comments received by the deadline on the agency Web site (www.ncua.gov) without alteration or redaction, so commenters should not include information they do not wish public (e.g., personal or confidential business information). SPAM or marketing materials will be discarded without publication.

FOR FURTHER INFORMATION CONTACT: Kelly Lay, Business Innovation Director or Amber Gravius, Special Assistant for Business Innovation, Office of the Executive Director, at 1775 Duke Street, Alexandria, VA 22314 or telephone (703) 518-6313 (Ms. Lay) or (703) 548-2411 (Ms. Gravius). Media inquiries should be directed to the NCUA Office of Public and Congressional Affairs at (703) 518-6671 or pacamail@ncua.gov.

SUPPLEMENTARY INFORMATION: The National Credit Union Administration (NCUA) is conducting a comprehensive review of the loan, deposit, and investment information collected electronically during examinations of federally insured credit unions (FICUs). The overarching goal is to modernize, formalize, and standardize data formats collected during examinations from the core data processing and offline systems ¹ used by credit unions. The purpose of this modernization effort is to:

¹ Offline systems is defined as other IT systems not connected or linked to the core data processing system or third party vendors with loan, deposit, and investment data. These may include, but are not limited to, credit cards, mortgage loans, student loans, indirect loans, etc.

a. Achieve a more consistent examination process;

b. Promote agency efficiencies and reduce burden on credit unions;

c. Reduce onsite time by streamlining agency efforts to sort, organize, and format data;

d. Improve data reliability and quality to enable more offsite work;

e. Enhance the objectivity of examination conclusions with a more thorough and advanced portfolio analysis; and

f. Support the Exam Flexibility Initiative's ² longer examination cycle, consistency between examiners, better communication, more efficient examination planning process, and better offsite monitoring tools.

² https://www.ncua.gov/About/Documents/exam-flexibility/exam-flexibility-initiative-report-2016-oct.pdf

This RFI is a major step in NCUA's internal modernization efforts. After considerable research and analysis, the agency is now at a point where it can outline the scope of its planned improvements. In turn, NCUA seeks the views of the public on this initiative and is eager to gain input from interested stakeholders on a number of aspects related to the future data collection by NCUA. Specifically, this RFI explains NCUA's objectives and seeks insights from stakeholders in identifying the interrelated considerations and challenges that could arise if NCUA adopts a new standardized data format for loan, deposit, and investment data.³ NCUA will use information furnished by stakeholders to help further define data fields to collect electronically, develop a standard data format (including field names and definitions), and comprise an implementation strategy that reduces burden without compromising the agency's ability to safeguard the National Credit Union Share Insurance Fund (NCUSIF).

³ A standard data format will not replace or eliminate all examiner data requests occurring during an examination. NCUA encourages responders to recommend other data sources that NCUA could standardize to improve exam efficiency.

Separate and apart from the normal examination data download process, FICUs with assets greater than $10B must comply with 12 CFR 702, subpart E which implements capital planning and stress testing.⁴ The information collected as part of this process is not the focus of this RFI as it differs significantly in timing, purpose, and content.

⁴ Implemented in 2014, NCUA's Office of National Examination and Supervision (ONES) collects detailed loan level data and select share data to run stress test scenarios and loan portfolio analytics for supervisory purpose. Currently, these credit unions send monthly data to NCUA on a quarterly basis using standard templates with 191 unique data fields relevant to each data type including automobile, credit cards, student, real estate, member business loans, and other consumer loans. The sample formats in this RFI include 53 similar fields to those collected by ONES.

In addition to this RFI, the agency may seek clearance from the Office of Management and Budget to conduct stakeholder calls and form workgroups to gather additional information about barriers and benefits to this modernization initiative. NCUA invites interested parties to respond generally to this modernization initiative and specifically to the questions included in this RFI.

I. Background

Examiners obtain electronic data at the beginning of every examination, during some supervision contacts, and on an ad hoc basis from credit unions. This raw data, sometimes from multiple sources and in multiple data files, provides examiners with essential information in evaluating credit and deposit risks in FICUs and is integral to risk supervision which is central to safeguarding the integrity of the NCUSIF. Before 1995, this data was in written format. In 1995, NCUA initiated the first electronic data collection ⁵ encouraging FICUs to provide member data to examiners through standard download routines made available by their information processing vendor or written in-house instead of paper listings and reports. In this letter, NCUA requested 12 member profile, 24 loan and 4 share fields electronically for each member record.⁶

⁵ NCUA Letter to Credit Unions Number 179, (September 1995).

⁶ The download file for both loans and shares include the 12 member profile fields.

In November 2000, NCUA encouraged adherence to the share and loan data record layout specifications to facilitate the import functions into NCUA's examination software, Automated Integrated Regulatory Examination System (AIRES).⁷ NCUA did not increase the electronic data fields or modify the data format with this communication.

⁷ NCUA Letter to Credit Unions 00-CU-09 (November 2000).

NCUA last changed the loan and share download in April 2003.⁸ Beginning June 30, 2003, the member profile fields were consolidated and one new field was added for a total of eight fields.⁹ The unique loan fields increased by eight and the unique share fields increased by nine to total 39 loan and 20 share data fields in the electronic download. Although NCUA did not make electronic data collection a requirement, NCUA did identify fields as “critical” and “optional.” NCUA requested FICUs provide all critical fields for successful import and use in the examination process. The letter identifies 15 critical fields in the share file and 25 critical fields in the loan file.

⁸ NCUA Letter to Credit Unions 03-CU-05 (April 2003).

⁹ NCUA combined the member name, first name, last name, and middle initial into one field. Additionally, the zip code fields were consolidated and social security number was added to the share download resulting in the number of unique member profile fields to decline from 12 to 8. The member profile fields are currently included in each loan and each share download.

In 2009, NCUA informed federal credit unions (FCUs) of the membership data collection and information extracted from the electronic loan and share download gathered during examinations.¹⁰ NCUA did not increase the electronic data fields or modify the data format with this communication.

¹⁰ NCUA Letter to Federal Credit Unions 09-FCU-03 (January 2009).

II. Reason for Modernization Initiative

The credit union industry is dynamic, with FICUs growing larger and more complex each year. NCUA must ensure its data collection vehicles evolve with industry practices and examination/supervision procedures so:

a. All material FICU risk exposures are captured;

b. data offering little insight into these exposures are no longer solicited; and

c. the reporting burden on supervised institutions—particularly small or non-complex credit unions—is minimized.

Increasing industry complexity, a desire for more effective offsite supervision, and evolving technologies necessitated a review of the current process in favor of opportunities to improve efficiencies and reduce the examination burden on credit unions. Table 1 illustrates the evolution of the FICU industry since NCUA last changed the electronic data collection in April 2003. Although the number of institutions has declined, FICUs continue to grow in assets, loans, shares, membership, and complexity.

Table 1—FICU Trends Since the Last Change in Electronic Data Collection
| 12/31/2003 | 3/31/2017 | Change (%)
FICUs | 9,369 | 5,737 | (63.33)
Total Assets | $610.16B | $1.34T | 119.62
Total Loans | $376.11B | $884.58B | 135.20
Consumer Loans ¹¹ | $187.53B | $390.07B | 108.00
Credit Card Loans | $21.84B | $51.59B | 136.21
Indirect Loans | ¹² Not collected | $172.56B | Not available
Participation Loans | $4.5B | $29.97B | 566.00
Real Estate Loans ¹³ | $168.26B | $438.93B | 160.86
Commercial/MBL | $9.32B | $68.89B | 639.16
Student Loans ¹⁴ | Not collected | $3.99B | Not available
Total Shares | $528.34B | $1.13T | 113.88
Average Assets | $65.10M | $233.0M | 257.91
Median Assets | $10.55M | $29.97M | 184.08
# Loans | 40.92M | 61.01M | 49.10
# Shares Accounts | 142.34M | 204.44M | 43.63

Today, examiners frequently request additional reports and data electronically during examinations above and beyond the loan and share download including, but not limited to: Investment data, credit cards, indirect loans, participation loans, and commercial/member business loans. These requests are compelled by increased complexity, more services, and extensive loan products offered to credit union members. These requests may be made before an examination begins or throughout the process. As NCUA has not defined a standard data structure and fields for different loan types,¹⁵ the characteristics of data presented in these files often differs from credit union to credit union and vendor to vendor. The unique formats can result in credit union resources to produce and explain their individual reports to examiners. This also creates examination inefficiencies for credit unions and examiners as the reports may not contain all information requested by the examiner and additional information requests may be made. Further, data limitations and inconsistency results in disparate evaluations of risk at different credit unions and across all FICUs.

¹¹ Includes unsecured loans, lines of credit, vehicle loans, short-term, small dollar amount loans, and leases receivable. This number may include some overlap with indirect, participation, and commercial/MBLs based on categories of reporting on the 5300 Call Report.

¹² The December 31, 2003 5300 Call Report only collected Indirect Loans Granted Year-To-Date. NCUA first started collecting total outstanding indirect loans with the March 31, 2014 Call Report. Credit unions reported a total of $97.35B indirect loans as of March 31, 2014. Since that initial reporting, indirect loans have increased 77.3%.

¹³ Total real estate loans includes commercial/MBLs secured by real estate.

¹⁴ Non-federally guaranteed student loans as reported on the 5300 Call Report. NCUA first started collecting this information with the March 31, 2014 Call Report. Credit unions reported a total of $2.84B non-federally guaranteed student loans as of March 31, 2014. Since that initial reporting, these loans have increased 40.49%.

¹⁵ Most credit unions must obtain reports from other systems and third party vendors for real estate, commercial/member business loans, student loans, credit cards, participation, and indirect loans. Examiners primarily receive consumer and real estate loan information in the current loan and share download limited to the data fields defined in NCUA Letter to Credit Unions 03-CU-05.

As part of the broader enterprise modernization effort, NCUA desires to improve loan and deposit portfolio analytics used during FICU examinations to provide for more consistent analysis of risk within and across institutions to mitigate losses to the NCUSIF. Data standardization is paramount to effectively use more robust analytic tools and will also benefit credit unions outside of the examination context, as credit unions have been known to use the download when two credit unions are merging to transfer records. It has also been used with some third party vendors for analytics, reporting, and data processing conversions.

NCUA acknowledges there are challenges with a standard data format. Credit unions use dozens of data processing systems and third party vendors for originating, recording, and monitoring loans, deposits, and investments. Additionally, there are many variations and platforms, including credit union developed information technology systems, with varying data content and formats. Responses to the questions in this RFI will inform NCUA of the extent to which FICUs can provide data electronically in a standard format and identify data fields available for electronic collection. Additionally, NCUA welcomes suggested implementation strategies that reduce burden without compromising the agency's ability to safeguard the NCUSIF.

III. Information Security

NCUA exercises great care in protecting sensitive and personally identifiable information. As a federal agency, NCUA must comply with mandatory security standards for federal information and information systems ¹⁶ and must meet these minimum information security requirements by using security and privacy controls recommended by the National Institute of Standards and Technology (NIST).¹⁷ In addition to NIST standards and guidelines, NCUA is subject to federal statutes such as the Federal Information Security Modernization Act (FISMA) of 2014, the E-Government Act of 2002, the Privacy Act of 1974 and various OMB policies and guidance concerning federal information management, FISMA reporting, and privacy.

¹⁶ FIPS Publication 199, Standards for Security Categorization of Federal Information and Information Systems; FIPS Publication 200, Minimum Security Requirements for Federal Information and Information Systems.

¹⁷ NIST Special Publication 800-53 (Rev. 4), Security and Privacy Controls for Federal Information Systems and Organizations.

NCUA uses administrative, technical, and physical controls, including but not limited to: Periodic review and authorization of information systems; proactive threat assessment and continuous monitoring; and annual general and role-based security training for employees and contractors. We also leverage independent tests and evaluations from other government agencies and third-party assessors.

The Office of the Inspector General (OIG) conducts independent audits, investigations and other activities to verify NCUA's compliance with applicable standards, laws and regulations related to privacy and information security and keeps the NCUA Board and U.S. Congress fully and currently informed of their work. The OIG conducts a FISMA and Federal Managers' Financial Integrity Act (FMFIA) audit annually to ensure NCUA has effectively implemented all appropriate security and privacy controls.¹⁸

¹⁸ The results of these audits are reported both internally and externally to ensure completion of all remedial findings. Credit Unions and their members can review OIG Audit Reports, Semiannual Reports and Letter to Congress at https://www.ncua.gov/About/Pages/inspector-general/reports.aspx.

Request for Comment: NCUA is providing questions about major aspects of this electronic data modernization to target issues the public would like addressed by the effort. The questions are not intended to limit discussion. Indeed, responders may explore an issue relevant to this initiative.

Responses containing references to studies, research, or data not widely available to the public should include copies of referenced materials. A description of the commenter's organization and its interest in the electronic data will help NCUA use the input provided.

a. Electronic Data Collection Modernization Questions

1. To the extent an FICU offers the loan and deposit services and has the investment instruments identified in the section b, are there any example data fields listed in this RFI that cannot be reasonably provided electronically? What other data fields could be provided that NCUA should consider collecting electronically?

2. For electronic data, what file formats (e.g., Microsoft Excel, CSV, etc.) are available?

3. If a FICU cannot provide data electronically, to what extent is the limitation due to the IT systems (e.g., the field is not available in the IT system to be captured electronically)? To what extent is the limitation because a credit union is not electronically collecting the data now (e.g., loan underwriting information captured in the loan file, such as a calculated debt to income ratio, but is not stored in an IT system that can capture that data)?

4. What is the number of vendors, systems, or service providers the FICU uses for loans (all types), deposits, and investments you currently can or would extract data for examination purposes? Specifically, how many are used for each category (e.g., loans, deposits, and investments)?

5. To what extent does the FICU rely on a third party vendor to create and produce raw data downloads? Does the vendor provide the credit union with the flexibility to self-customize reporting for data attributes?

6. What are the technological challenges NCUA should consider with a standardized data format (e.g., specific file names, format, etc.)?

7. What additional initial and annual costs would you estimate a FICU could incur to generate and provide data electronically in a standard format (e.g., pass through costs from vendors, in-house development resources, etc.)?

8. Does the credit union or vendor have the ability to retain and create the current loan and share download data format (with no changes) as well as new download data formats? ¹⁹

¹⁹ NCUA is modernizing our examination platform and analytics. The new data format will be used with these technological advancements. Until the current systems that use the existing download are retired, examiners will need the current download file as existing tools may not be able to accommodate a new download data format.

9. Should NCUA eliminate the “critical” and “optional” data categorizations discussed in NCUA Letter to Credit Unions 03-CU-05? If yes, what approaches would you propose NCUA use to collect standardized data for better analytics and examination efficiencies?

10. With the exception of the example data formats based on data type discussed in this RFI, what alternatives would you propose for NCUA to collect data in a standardized format that minimizes the credit union burden?

11. What implementation strategies and timeline should NCUA consider with this modernization? For example, what is the anticipated timeframe for a FICU or vendor to provide the sample data fields and the associated format? How should NCUA ensure FICUs use the standard data format?

12. What specific information security controls or assurances are expected from NCUA to reasonably safeguard the electronic loan, share, and investment data?

Commenters are also encouraged to discuss any other relevant issues they believe NCUA should consider with respect to the electronic collection of loan, deposit, and investment data.

b. Sample Loan, Deposit, and Investment Electronic Data Collection

NCUA is requesting input and feedback on sample data fields and the associated format.²⁰ The information in tables 2-9 is preliminary and is presented for discussion and input purposes only. For sample purposes only, NCUA is presenting one data format for all deposit types, one for investment data,²¹ and different data formats for loans based on the loan type.²² To the extent the FICU offers these loan and deposit services and has these investment instruments, NCUA is asking stakeholders to identify if FICUs can provide these and other data fields electronically in their response to the RFI. Similar to the download process today, credit unions would be permitted to submit multiple data files electronically for loans, deposits, and investments.

²⁰ These data formats include 9 member profile, 18 deposit, 120 loan, and 12 investment unique data files. They include all data fields listed in Letter to Credit Unions 03-CU-05, except three data fields that would be overlapping with new data fields—Date of Last Activity, Last Activity Code, and Credit Limit at origination.

²¹ As of March 31, 2017, FICUs reported the following investments: Securities: 40.9% of all FICUs; Non-negotiable CDs: 83.7%.

²² Loan types include consumer, indirect, participations, residential real estate, student loans, and commercial/member business loans. As of March 31, 2017, FICUs reported the following loan services: Consumer: 100% of FICUs; Indirect: 33.1%; Participation: 27.2%; Real estate: 75.6%; Non-guaranteed federal student Loans: 12.1%; Commercial/MBL: 37.9%.

²³ Identifies fields requested in NCUA Letter to Credit Unions 03-CU-05 (April 2003). Fields identified with an asterisk (*) are categorized as “critical” fields by NCUA in Letter to Credit Unions 03-CU-05.

Table 2—Deposit Electronic Fields
Number | Applies to | Field | Description | Example | Data format | Current NCUA standard field ²³
D1 | All Share Accounts | Effective date of the download | Effective date of the data | 03312017 | Date | No.
D2 | All Share Accounts | Record Code | Indicate D for Deposits, L for Loans, I for Investment | D | D/L/I | Yes .*
D3 | All Share Accounts | Taxpayer ID | Nine digit code used by the U.S. Government (TIN). For individuals use Social Security number | 123456789 | Number | Yes .*
D4 | All Share Accounts | Member ID | Primary key identifier for the entity. This is the number used to uniquely identify the member/non-member such as an account number | ABC123456 | Text | Yes .*
D5 | All Share Accounts | Member Name | Full legal name. Format: Last Name, Suffix (if applicable), First Name, Middle Initial for individuals. For business provide full legal name | Long Sr., John, S | Text | Yes .*
D6 | All Share Accounts | Address Line 1 | Street address | 7247 Circle Sun | Text | Yes .*
D7 | All Share Accounts | Address Line 2 | Address line 2 | P.O. Box 858 | Text | Yes
D8 | All Share Accounts | City | City where borrower resides. For business account, provide the city of the main or head office | Fairfax | Text | Yes .*
D9 | All Share Accounts | State | Post office state code where borrower resides. For business accounts, provide the state of the main or head office | NM | Text | Yes .*
D10 | All Share Accounts | Zip Code | Zip code where borrower resides. For business accounts, provide the zip code of the main or head office | 80521 | Number | Yes .*
D11 | All Share Accounts | Insiders and Employees | If data supports, report “D” for directors, supervisory committee, and credit committee members, “O” for executive officers, and “E” for employees who are not executive officers. If the CEO is also the Board Treasurer, report as an executive officer—“O”. If the credit union or vendor data does not support this scheme, simply identify insider status with Y/N | E | Text | Yes.
D12 | All Share Accounts | Non-member | Indicator to identify non-member share accounts | Y | Y/N | No.
D13 | All Share Accounts | Share Balance | Current balance of the share account, signed with two decimal places | 156.45 | Number | Yes .*
D14 | All Share Accounts | Share Type Code | System code to identify certificates, regular, draft, IRA, money market and other share deposit accounts | R | Text | Yes .*
D15 | All Share Accounts | Dividend Rate | Current dividend rate for each share account | 2 | Number | Yes .*
D16 | All Share Accounts | Date of Last Activity | Date of last deposit or withdrawal | 03312017 | Date | Yes .*
D17 | All Share Accounts | Share Amount Frozen | Dollar amount of the account the member cannot access | 5000.00 | Number | Yes .*
D18 | All Share Accounts | Last Activity Code | Identifies the type of account activity that occurred last by code | FM | Text | Yes.
D19 | All Share Accounts | Accrued Dividend Interest | Dollar amount of accrued dividends | 25.36 | Number | Yes.
D20 | All Share Accounts | Last File Maintenance Date | Last date of any non-financial modification to the account (e.g., dividend rate, member address, etc.) | 03312017 | Date | Yes.
D21 | All Share Accounts | Last File Maintenance User ID or Initials | Approving official or employee's transaction code or initials | AH | Text | Yes.
D22 | All Share Accounts | Date Negative Shares | The date the share account first went negative without cure | 03312017 | Date | No.
D23 | All Share Accounts | Joint Owner | Provide the name of the joint owner's full legal name. Format: Last Name, Suffix (if applicable), First Name, Middle Initial for individuals. For businesses, provide full legal name | Long Sr., John, S | Text | No.
D24 | All Share Accounts | Membership Type | Provide the membership type using the following identifiers: Single ownership, Joint ownership, Trustee, or Business | Business | Text | No.
D25 | All Share Accounts | Last Statement Date | Date the member statement was last generated | 03312017 | Date | No.
D26 | Share Certificate Accounts | Step/Bump Dividend Rate | Indicator if the share certificate product has a term that allows the member to “step-up” or “bump-up” the dividend rate | Y | Y/N | No.
D27 | Share Certificate Accounts | Certificate Date Granted | Date member opened the share certificate account | 03312017 | Date | Yes .*
D28 | Share Certificate Accounts | Certificate Maturity Date | Date the share certificate will mature | 03312017 | Date | Yes .*
D29 | Business Accounts | Name of Beneficiaries | Full legal name of individuals who are beneficiaries on business accounts. Format: Last Name, Suffix (if applicable), First Name, Middle Initial | Long Sr., John, S | Text | No.

²⁴ NCUA has not previously published a standard structure for investment data. This will facilitate robust analytics with a dynamic, quantitative third-party service platform for interest rate risk assessment of individual securities and portfolios without requiring the examiner to reformat data files or request additional data from the credit union.

Table 3—Security and Non-Negotiable CD Investment Electronic Fields ²⁴
Number | Field | Description | Example | Data format | Current NCUA standard field
I1 | Download Cut-off date | Effective date of the data | 03312017 | Date | No.
I2 | Record Code | Report D for Deposits, L for Loans, I for Investment | L | D/L/I | No.
I3 | CUSIP Number | Committee on Uniform Securities Identification Procedures number. Security identifier | 23345abcd | Text | No.
I4 | Original Face Value | Original face value of the investment | 100,000 | Number | No.
I5 | Current Face Value | Current face value of the investment | 100,000 | Number | No.
I6 | Book Value | Current book value of the investment | 102,000 | Number | No.
I7 | Fair Value | Current fair value of the investments | 102,000 | Number | No.
I8 | Maturity Date | Maturity date of investment | 12312017 | Date | No.
I9 | Coupon/Rate | Stated coupon or rate of investment | 5 | Number | No.
I10 | Floating Rate | Indicator if the investment has floating rate | Y | Y/N | No.
I11 | Issuer | Name of issuer of the investment | Wells Fargo Bank | Text | No.
I12 | Settlement Date | Date funds are exchanged | 10312015 | Date | No.

²⁵ Identifies fields requested in NCUA Letter to Credit Unions 03-CU-05 (April 2003). Fields identified with an asterisk (*) are categorized as “critical” fields by NCUA in Letter to Credit Unions 03-CU-05.

²⁶ NCUA reviewed the Interagency Loan Data Request (ILDR) issued in March 2013. The ILDR provides a standard format for banks to electronically provide loan data. In comparison to the 82 data fields in the ILDR, the sample loan formats include 61 similar loan fields. https://www.fdic.gov/news/news/financial/2013/fil13012.html.

Table 4—Consumer and Credit Card Loan Electronic Fields
Number | Field | Description | Example | Data format | Current NCUA standard field ²⁵ | ILDR Field ²⁶
C1 | Effective date of the download | Effective date of the data | 03312017 | Date | No | No.
C2 | Record Code | Indicate D for Deposits, L for Loans, I for Investment | L | D/L/I | Yes* | No.
C3 | Taxpayer ID | Nine digit code used by the US Government (TIN). For individuals use social security number | 123456789 | Number | Yes* | Yes.
C4 | Borrower ID | Primary key identifier for the entity. This is the number used to uniquely identify the member/non-member such as an account number | ABC123456 | Text | Yes* | Yes.
C5 | Member Name | Full legal name. Format: Last Name, Suffix (if applicable), First Name, Middle Initial for individuals. For business provide full legal name | Long Sr., John, S | Text | Yes* | Yes.
C6 | Address Line 1 | Street address | 7247 Circle Sun | Text | Yes* | Yes.
C7 | Address Line 2 | Address line 2 | PO Box 858 | Text | Yes | Yes.
C8 | City | City where borrower resides. For business accounts, provide the city of the main or head office | Fairfax | Text | Yes* | Yes.
C9 | State | Post office state code where borrower resides. For business accounts, provide the state of the main or head office | NM | Text | Yes* | Yes.
C10 | Zip Code | Zip code where borrower resides. For business accounts, provide the zip code of the main or head office | 80521 | Number | Yes* | Yes.
C11 | Insiders and Employees | If data supports, report “D” for directors, supervisory committee, and credit committee members, “O” for executive officers, and “E” for employees who are not executive officers. If the CEO is also the Board Treasurer, report as an executive officer—“O”. If the credit union or vendor data does not support this scheme, simply identify insider status with Y/N | E | Text | Yes | Yes.
C12 | Business Type | Provide the member's North American Industry Classification System (NAICS) code where majority of their revenue is generated from | 54194 | Text | No | Yes.
C13 | Branch ID | Identifies the originating service facility | 01C | Text | Yes | Yes.
C14 | Loan ID | Unique identifier for each loan | A | Text | No | Yes.
C15 | Loan Category | The type of loan. Provide “Commercial/MBL”, “Residential Real Estate”, or “Consumer” | Commercial | Text | No | No.
C16 | Loan Type | The type of loan product as defined by the vendor or credit union (e.g. New or Used Auto, Credit Card Fixed, Credit Card Variable, etc.) | Capital LOC | Text | Yes* | Yes.
C17 | Purpose Code | Description of what the proceeds will be used for; Reason for loan | Auto purchase | Text | Yes* | Yes.
C18 | Origination Date | The note date; date the loan was originated. Do not report the date of last advance | 03312017 | Date | Yes* | Yes.
C19 | Original Loan Amount | The original principal amount of the loan | 1500.45 | Number | Yes* | Yes.
C20 | Payment Amount | Amount of regularly scheduled payment | 780.25 | Number | Yes* | Yes.
C21 | Loan Term | The contractual number of payments required by the note or modification of the note | 60 | Number | Yes* | Yes.
C22 | Payment Frequency | The interval of time payments are contractually required (monthly, quarterly, annually, balloon/maturity, etc.) | M | Text | Yes* | Yes.
C23 | Balloon Flag | Indicator the loan is a balloon loan | Y | Y/N | No | No.
C24 | Balloon Term | Number of months from origination until balloon date | 84 | Number | No | No.
C25 | Interest Only Flag | Indicator the borrower pays only the interest on the principal balance for a set period of time, with the principal balance unchanged | Y | Y/N | No | No.
C26 | Interest Only Term | The length of time (in months) during which the borrower pays only interest on the principal balance | 12 | Number | No | No.
C27 | First Payment Date | Date the first payment was/is due | 03312017 | Date | No | No.
C28 | Maturity Date | Date when full payment on the loan is contractually due. For balloon loans, this should be the same as the balloon expiration date | 03312017 | Date | No | Yes.
C29 | Interest Rate | The contractual rate of interest currently applied to this loan at origination | 5.000 | Number | Yes* | Yes.
C30 | Loan Type | The type of loan product as defined by the vendor or credit union (e.g. New or Used Auto, Credit Card Fixed, Credit Card Variable, etc.) | Capital LOC | Text | Yes | Yes.
C31 | Current Interest Rate | The contractual rate of interest currently applied to this loan | 5 | Number | No | Yes.
C32 | First Rate Adjustment Date | Initial date the interest rate will/did adjust on variable rate loans | 03312017 | Date | No | No.
C33 | Next Rate Adjustment Date | Future date interest rate will adjust on variable rate loans | 03312017 | Date | No | No.
C34 | Lifetime Interest Rate Cap | The maximum rate the loan can reach over its contractual term | 18.000 | Number | No | Yes.
C35 | Interest Rate Floor | The minimum rate the loan can reach over its contractual term | 4.000 | Number | No | No.
C36 | Variable Rate Index | Interest rate base index used when the loan's rate varies with an index | Prime | Text | No | Yes.
C37 | Variable Rate Margin | The margin added or subtracted from the index to get the rate | 2 | Number | No | No.
C38 | Current Credit Limit | The maximum a borrower can currently incur | 2500.00 | Number | No | No.
C39 | Date Closed | Date a line of credit was closed | 03312017 | Date | No | No.
C40 | Credit Score at Origination | Credit score of the primary borrower (e.g. FICO or Beacon) obtained from a credit bureau that was used in the underwriting of the credit. If two bureau scores were used, provide the highest score. If the credit union obtains all three bureau scores, provide the middle score | 825 | Number | Yes* | Yes.
C41 | Original Credit Score Date | Date of the primary borrower's credit score at origination | 03312017 | Date | No | No.
C42 | Current Credit Score | Most recent primary borrower credit score obtained by the credit union | 745 | Number | No | No.
C43 | Current Credit Score Date | Most recent date of updated credit score for the primary borrower | 03312017 | Date | No | No.
C44 | Guarantor | Name of entity/person that guarantees the loan. With multiple guarantors, give the primary one | Long Sr., John, S | Text | No | Yes.
C45 | Co-Maker/Co-Borrower/Guarantor | The name of the co-maker/co-borrower whose signature(s) appears on the promissory note or loan agreement. Provide the first one when there are multiple co-makers/co-borrowers | Long Sr., John, S | Text | No | Yes.
C46 | Co-Maker/Co-Borrower Credit Score at Origination | Credit score of the co-maker/co-borrower at the time of origination | 680 | Number | No | No.
C47 | Current Credit Score Date of Co-Borrower | Most recent date of updated credit score of the co-borrower/co-maker | 03312017 | Date | No | No.
C48 | Original Credit Score Date of Co-Borrower | Credit score of the co-borrower/co-maker (e.g. FICO or Beacon) obtained from a credit bureau that was used in the underwriting of the credit. If two bureau scores were used, provide the highest score. If the credit union obtains all three bureau scores, provide the middle score | 800 |  | No | No.
C49 | Loan Officer | Code or loan officer name responsible underwriting and/or borrower relationship | BB | Text | No | Yes.
C50 | Loan Approver | Code or name of approving official. Indicate if approved by the Credit Committee or Board of Directors | AG | Text | Yes | No.
C51 | Loan Risk Grade | Credit union internal risk rating at origination. The credit union's internal loan risk grade (e.g., A, B, C, or D paper) | A | Text | Yes | Yes.
C52 | Collateral Protection Insurance | Indicator loan has coverage for when insurance coverage lapses | Y | Y/N | No | No.
C53 | GAP Indicator | Indicator the member purchased gap insurance on the collateral | Y | Y/N | No | No.
C54 | Credit Life | Indicator loan has a life insurance policy designed to pay off the borrower's debt if they die | Y | Y/N | No | No.
C55 | Credit Disability | Indicator loan has disability insurance designed to pay the borrower's debt if they become disabled | N | Y/N | No | No.
C56 | Loan Collateral | The narrative description of the collateral (e.g., year, make and model; 38 unit apartment building, etc.) | 1996 Ford Mustang | Text | No | Yes.
C57 | Collateral Code | The system code associated with the collateral type (e.g., residential real estate, etc.) | Residential real estate | Text | Yes* | Yes.
C58 | Origination Collateral Value | Total value of collateral at loan origination | 50000.00 | Number | No | Yes.
C59 | Collateral Valuation/Appraisal Date (Origination) | Date collateral was appraised or valued at loan origination | 20170313 | Date | No | Yes.
C60 | Current Collateral Value | Dollar value of collateral when last assessed by the credit union | 45150.65 | Number | No | No.
C61 | Most Recent Collateral Value/Appraisal Date | Date collateral was last appraised or valued | 03312017 | Date | No | Yes.
C62 | Lien Position | The credit union's lien position on the collateral (e.g., 1st, 2nd, 3rd, etc.). If more than one collateral, identify the primary collateral's lien position | 1 | Number | No | Yes.
C63 | VIN Number | Vehicle Identification Number/unique identifier for collateral | 1GTV2TEH8EZ173011 | Text | No | No.
C64 | Current Loan Balance | Current outstanding principal balance of the loan. If the member has overpaid the note and the credit union is carrying a credit balance, provide the number as a negative balance with a minus sign as the first character (e.g., −33.56) | 84500.01 | Number | Yes* | Yes.
C65 | Date of Last Payment | Date the last payment was made | 03312017 | Date | No | Yes.
C66 | Number of Remaining Payments | The remaining contractual number of payments required by the loan | 24 | Number | Yes* | No.
C67 | Next Payment Due Date | The date the next payment, principal or interest, is due. For delinquent loans, this will be in the past | 03312017 | Date | Yes* | Yes.
C68 | Accrued Interest | Total amount of interest accrued and not yet received on a loan | 180.32 | Number | Yes* | Yes.
C69 | Late Charges | Late charges currently due and unpaid | 95.06 | Number | No | Yes.
C70 | Debt to Income Ratio | Debt payments divided by gross or net income calculated at time of loan origination | 35.670 | Number | No | No.
C71 | Days Past Due | Number of days the note is past due beyond the due date as of the effective date of the download. If loan is current or paid ahead, report as zero | 75 | Number | Yes* | Yes.
C72 | Delinquency Counter 30-59 Days | Number of times past due 30-59 days since origination date | 2 | Number | Yes | Yes.
C73 | Delinquency Counter 60-89 Days | Number of times past due 60-89 days since origination date | 4 | Number | Yes | Yes.
C74 | Delinquency Counter 90-119 Days | Number of times past due 90-119 days or more since the origination date | 0 | Number | Yes | Yes.
C75 | Delinquency Counter 120 Days + | Number of times past due 120+ days or more since the origination date | 1 | Number | Yes | Yes.
C76 | Last Renewal Date | The date the loan was last renewed | 03312017 | Date | No | Yes.
C77 | Loan Modification | Indicator if the loan has been modified. A loan modification permanently restructures the terms of an existing loan. A loan modification is not a new loan, but a renegotiation of an existing loan | Y | Y/N | No | No.
C78 | Date of Loan Modification | Date of last loan modification | 20170313 | Date | No | Yes.
C79 | Capitalized Interest Amount | Amount of interest added to the loan principal balance | 259.63 | Number | No | Yes.
C80 | Amount of last advance | Dollar amount of the last advance | 55000.00 | Number | No | No.
C81 | Interest rate reset interval | Time between periodic reset dates for variable or adjustable rate loans expressed in days. | 30 | Number | No | Yes.
C82 | Troubled Debt Restructure | Indicates if a loan is currently a troubled debt restructure as defined by GAAP | Y | Y/N | No | Yes.
C83 | Nonaccrual | Indicate if the loan is currently on nonaccrual | N | Y/N | No | Yes.
C84 | Charge-Off Flag | Indicator if entire loan has been charged off | Y | Y/N | No | No.
C85 | Charge Off Amount | Amount of principal charged off this loan | 5000.00 | Number | Yes | Yes.
C86 | Charge Off Date | Date the loan was charged off | 03312017 | Date | No | No.
C87 | Last File Maintenance Date | Date of last file maintenance change on this loan | 03312017 | Date | Yes | No.
C88 | Last File Maintenance User ID or Initials | User ID of person who made last file maintenance change | JB100 | Text | Yes | No.
C89 | Last File Maintenance action Code | Description of what was last changed on the member loan (e.g., due date, name, loan status, etc.) | DD | Text | No | No.
C90 | Interest Rate Spread | Interest rate variance from the index rate changed on the note. Express in terms of a percentage. For example, the premium of a note written at Prime +2.25% would be expressed as 2.25 | 2.25 | Number | No | Yes.

Table 5—Indirect Loan Electronic Data Fields
Number | Field | Description | Example | Data format | Current NCUA field | ILDR field
Includes all fields from Table 4: Consumer and Credit Card Loan Electronic Data Fields and the following:
ID1 | Dealer Code | Name of sales agent for indirect auto loans | Hanks Auto Sales | Text | No | Yes.
ID2 | Indirect Loan Flag | Indicator if the loan was originated through an indirect loan program | Y | Y/N | No | No.
ID3 | Dealer Reserve Balance | Current dealer reserve against the note | 3,000 | Number | No | Yes.

Table 6—Participation Loan Electronic Data Fields
Number | Field | Description | Example | Data format | Current NCUA field | ILDR field
Includes all fields from Table 4: Consumer and Credit Card Loan Electronic Data Fields and the following:
P1 | Participation Sold (Original Amount) | The original amount of this note that was sold | 9,000,000 | Number | No | Yes.
P2 | Participation Sold (Current Balance) | The current balance of the amount sold | 8,750,000 | Number | No | Yes.
P3 | Participation Purchases (Original Amount) | The original amount of this note that was purchased | 9,000,000 | Number | No | No.
P4 | Participation Purchases (Current Balance) | The current balance of the amount purchased | 8,750,000 | Number | No | No.
P5 | Purchase percentage | Shows the percentage of the total participation loan owned by the credit union for individual loan purchases | 20.000 | Number | No | No.
P6 | Originating/Lead Lender | Shows the name of the originating/lead lender in the participation | ABC FCU | Text | No | No.
P7 | Sold Percentage | Identify the percentage of total participation loan the credit union sold | 90.999 | Number | No | No.

Table 7—Residential Real Estate Loan Electronic Data Fields
Number | Field | Description | Example | Data format | Current NCUA field | ILDR field
Includes all fields from Table 4: Consumer and Credit Card Loan Electronic Data Fields and the following:
R1 | Property Type | Indicate the property type (e.g., Single, Multi, Condominium, etc.) | Condo | Text | No | No.
R2 | Collateral State | Post office state code where collateral property is located | AZ | Text | No | No.
R3 | Collateral City | City where collateral property is located | Phoenix | Text | No | No.
R4 | Collateral County | County where collateral property is located | Maricopa | Text | No | No.
R5 | Collateral Zip Code | Zip code where collateral property is located | 85255 | Number | No | No.
R6 | Property in Flood Zone | Indicator if the collateral securing the loan is in a designated flood zone | Y | Y/N | No | No.
R7 | Draw Period | Remaining period of time (in months) a borrower can withdraw funds from a credit account | 120 | Number | No | No.
R8 | Current Escrow Balance | Amount currently in escrow for payment to third parties such as insurance and real estate taxes. In the case of a negative escrow balance, report the data in this field with a minus sign in the first character position (e.g., −350) | 2,585 | Number | No | Yes.
R9 | Number of Renewals | Indicate the number of times the loan has been renewed | 2 | Number | No | Yes.

Table 8—Commercial/Member Business Loan Electronic Data Fields
Number | Field | Description | Example | Data format | Current NCUA field | ILDR field
Includes all fields from Table 4: Consumer and Credit Card Loan Electronic Data Fields and the following:
CL1 | Current Loan Risk Grade Commercial/MBL | Credit union internal risk rating at recent review/evaluation of commercial/MBL; Number or letter grade determined based on the level of risk | 1 | Text | No | Yes.
CL2 | Date of Current Loan Risk Grade Commercial/MBL | Date the most recent internal risk rating at recent review/evaluation of commercial/MBLs | 03312017 | Date | No | Yes.
CL3 | Debt Service Coverage Ratio (DSCR) | Debt service coverage ratio calculated for the loan at origination | 1.05 | Number | No | No.
CL4 | Personal guaranty status | Identify the level of personal guaranty of the principals (e.g., full, limited, or none) | Full | Text | No | No.
CL5 | Environmental Review Level at origination | Identify the level of environmental review at origination (e.g., borrower questionnaire, record search, phase 1, or phase 2) | Phase 1 | Text | No | No.
CL6 | Environmental Review Date | Date of environmental review at origination | 03312017 | Date | No | No.
CL7 | Last Periodic Review | Date of last periodic/annual file review | 03312017 | Date | No | No.
CL8 | Property Type | Indicate the property type (e.g., Single, Multi, Condominium, etc.) | Condo | Text | No | No.
CL9 | Collateral State | Post office state code where collateral property is located | AZ | Text | No | No.
CL10 | Collateral City | City where collateral property is located | Phoenix | Text | No | No.
CL11 | Collateral County | County where collateral property is located | Maricopa | Text | No | No.
CL12 | Collateral Zip Code | Zip code where collateral property is located | 85255 | Number | No | No.
CL13 | Property in Flood Zone | Indicator if the collateral securing the loan is in a designated flood zone | Y | Y/N | No | No.
CL14 | Draw Period | Remaining period of time (in months) a borrower can withdraw funds from a credit account | 120 | Number | No | No.
CL15 | Current Escrow Balance | Amount currently in escrow for payment to third parties such as insurance and real estate taxes. In the case of a negative escrow balance, report the data in this field with a minus sign in the first character position (e.g., −350) | 2,585 | Number | No | Yes.
CL16 | Policy Exception | Indicator if the loan is an exception to policy | Y | Y/N | No | No.
CL17 | Number of Renewals | Indicate the number of times the loan has been renewed | 2 | Number | No | Yes.
CL18 | Specific Reserve | Amount of specific reserve for loan losses on this note which is not available to offset losses on any other loan | 50,000 | Number | No | Yes.

Table 9—Student Loan Electronic Data Fields
Number | Name | Description | Example | Data format | Current NCUA field | ILDR field
Includes all fields from Table 4: Consumer and Credit Card Loan Electronic Data Fields and the following:
S1 | Time to Repayment | For deferred loans: Amount of time, in months, until repayment period begins | 65 | Number | No | No.
S2 | Deferred Status | Indicator if student loan is in deferred status | Y | Y/N | No | No.

By the National Credit Union Administration Board on October 19, 2017.
Gerard Poliquin,
Secretary of the Board.

[FR Doc. 2017-23219 Filed 10-30-17; 8:45 am]

BILLING CODE 7535-01-P